NATIONAL SCIENCE FOUNDATION

Engineering Advisory Committee; Notice of Meeting

In accordance with Federal Advisory Committee Act (Pub. L. 92-463, as amended), the National Science Foundation announces the following meeting:

Name: Advisory Committee for Engineering, #1170.

Date/Time: April 14, 2010: 12 p.m. to 6 p.m. April 15, 2010: 8:15 a.m. to 12 p.m.

Place: National Science Foundation, 4201 Wilson Boulevard, Suite 1235, Arlington, Virginia 22230.

Type of Meeting: Open.

Contact Person: Deborah Young, National Science Foundation, 4201 Wilson Boulevard, Suite 505, Arlington, Virginia 22230 703/292-8300.

Purpose of Meeting: To provide advice, recommendations and counsel on major goals and policies pertaining to engineering programs and activities.

Agenda: The principal focus of the meeting on both days will be to discuss emerging issues and opportunities for the Directorate for Engineering and its divisions and review Committee of Visitors Reports.

Dated: March 19, 2010.
Susanne Bolton,
Committee Management Officer.

[FR Doc. 2010-6448 Filed 3-23-10; 8:45 am]

BILLING CODE 7555-01-P